DEPARTMENT OF COMMERCE

International Trade Administration

[A-580-883]

Certain Hot-Rolled Steel Flat Products From the Republic of Korea: Final Results of Antidumping Duty Administrative Review; 2020-2021

AGENCY: Enforcement and Compliance, International Trade Administration, Department of Commerce.

SUMMARY: The U.S. Department of Commerce (Commerce) determines that the producers/exporters subject to this review made sales of subject merchandise at less than normal value during the period of review (POR), October 1, 2020, through September 30, 2021. Commerce also determines that one mandatory respondent did not make sales of subject merchandise at less than normal value during the POR.

DATES: Applicable April 20, 2023.

FOR FURTHER INFORMATION CONTACT: Christopher Williams or Thomas Schauer, AD/CVD Operations, Office I, Enforcement and Compliance, International Trade Administration, U.S. Department of Commerce, 1401 Constitution Avenue NW, Washington, DC 20230; telephone: (202) 482-5166 or (202) 482-0410, respectively.

SUPPLEMENTARY INFORMATION:

Background

On November 1, 2022, Commerce published in the Federal Register the preliminary results of the 2020-2021 administrative review of the antidumping duty order on hot-rolled steel flat products (hot-rolled steel) from the Republic of Korea (Korea).¹ This review covers 14 producers/exporters of the subject merchandise, Hyundai Steel Company (Hyundai Steel), POSCO,² and 12 non-selected companies. We invited parties to comment on the Preliminary Results.³ On December 1, 2022, we received case briefs from the petitioners ⁴ and from the mandatory respondents, Hyundai Steel and POSCO.⁵ On December 15, 2022, the petitioners and Hyundai Steel submitted rebuttal briefs.⁶ On February 2, 2023, Commerce extended the deadline for the final results of review until April 28, 2023.⁷ Commerce conducted this review in accordance with section 751(a)(1)(B) of the Tariff Act of 1930, as amended (the Act).

¹ See Certain Hot-Rolled Steel Flat Products from the Republic of Korea: Preliminary Results of Antidumping Duty Administrative Review; 2020-2021, 87 FR 65744 (November 1, 2022) (Preliminary Results), and accompanying Preliminary Decision Memorandum.

² Commerce treated POSCO and POSCO International Corporation (PIC) as a single entity in the most recently completed review. See Certain Hot-Rolled Steel Flat Products from the Republic of Korea: Preliminary Results of Antidumping Duty Administrative Review; 2019-2020, 86 FR 59985 (October 29, 2021), and accompanying Preliminary Decision Memorandum at 6-13, unchanged in Certain Hot-Rolled Steel Flat Products from the Republic of Korea: Final Results of Antidumping Duty Administrative Review; 2019-2020, 87 FR 12660 (March 7, 2022). Therefore, we continue to treat POSCO and PIC as a single entity in this review; no party commented on this treatment.

³ See Preliminary Results, 87 FR at 65745.

⁴ See Petitioners' Letter, “Petitioners' Case Brief,” dated December 1, 2022. The petitioners are SSAB Enterprises, LLC, and Steel Dynamics, Inc. (collectively, the petitioners).

⁵ See Hyundai Steel's Letter, “Hyundai Steel's Case Brief,” dated December 1, 2022; and POSCO's Letter, “POSCO/PIC's Case Brief,” dated December 1, 2022.

⁶ See Petitioners' Letter, “Petitioners' Rebuttal Brief,” dated December 15, 2022; see also Hyundai Steel's Letter, “Hyundai Steel's Rebuttal Brief,” dated December 15, 2022.

⁷ See Memorandum, “Extension of Deadline for Final Results of Antidumping Duty Administrative Review; 2020-2021,” dated February 2, 2023.

Scope of the Order

The products covered by the Order ⁸ are hot-rolled steel. A full description of the scope of the Order is contained in the Issues and Decision Memorandum.⁹

⁸ See Certain Hot-Rolled Steel Flat Products from Australia, Brazil, Japan, the Republic of Korea, the Netherlands, the Republic of Turkey, and the United Kingdom: Amended Final Affirmative Antidumping Determinations for Australia, the Republic of Korea, and the Republic of Turkey and Antidumping Duty Orders, 81 FR 67962 (October 3, 2016) (Order).

⁹ See Memorandum, “Issues and Decision Memorandum for the Final Results of Antidumping Duty Administrative Review; 2020-2021: Certain Hot-Rolled Steel Flat Products from the Republic of Korea,” dated concurrently with, and hereby adopted by, this notice (Issues and Decision Memorandum).

Analysis of Comments Received

All issues raised in the case and rebuttal briefs that were submitted by parties in this administrative review are addressed in the Issues and Decision Memorandum and are listed in the appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed at https://access.trade.gov/public/FRNoticesListLayout.aspx.

Changes Since the Preliminary Results

Based on the comments received from interested parties regarding our Preliminary Results, and for the reasons explained in the Issues and Decision Memorandum, we made certain changes for the final results of review.

Rates for Non-Examined Companies

The Act and Commerce's regulations do not address the establishment of a rate to be applied to companies not selected for examination when Commerce limits its examination in an administrative review pursuant to section 777A(c)(2) of the Act. Generally, Commerce looks to section 735(c)(5) of the Act, which provides instructions for calculating the all-others rate in a market economy investigation, for guidance when calculating the rate for companies which were not selected for individual examination in an administrative review. Under section 735(c)(5)(A) of the Act, the all-others rate is normally an amount equal to the weighted average of the estimated weighted-average dumping margins established for exporters and producers individually investigated, excluding any zero or de minimis margins, and any margins determined entirely on the basis of facts available.

In this review, we calculated a weighted-average dumping margin for one of the mandatory respondents, Hyundai Steel, that is not zero, de minimis, or determined entirely on the basis of facts available. Accordingly, because the second mandatory respondent, POSCO's margin is de minimis, Commerce assigned to the companies not individually examined, listed in the chart below, a margin of 0.88 percent based on Hyundai Steel's calculated weighted-average dumping margin.

Final Results of Review

We determine that the following weighted-average dumping margins exist for the period October 1, 2020, through September 30, 2021.

Producer/exporter | Weighted- average dumping margin (percent)
Hyundai Steel Company | 0.88
POSCO; POSCO International Corporation | 0.00

Review-Specific Average Rate Applicable to the Following Companies:

Producer/exporter | Weighted- average dumping margin (percent)
Del Trading Inc | 0.88
Dongkuk Industries Co., Ltd | 0.88
Dongkuk Steel Mill Co., Ltd | 0.88
Gs Global Corp | 0.88
Gs Holdings Corp | 0.88
KG Dongbu Steel Co., Ltd | 0.88
Marubeni-Itochu Steel Korea, Ltd | 0.88
Samsung C and T Corporation | 0.88
Snp Ltd | 0.88
Soon Ho Co., Ltd | 0.88
Soon Hong Trading Co. Ltd | 0.88
Sungjin Co., Ltd | 0.88

Disclosure

We intend to disclose the calculations performed in connection with these final results to parties in this proceeding within five days after public announcement of the final results or, if there is no public announcement, within five days of the date of publication of the notice of final results in the Federal Register, in accordance with 19 CFR 351.224(b).

Assessment Rates

Pursuant to section 751(a)(2)(C) of the Act and 19 CFR 351.212(b)(1), Commerce will determine, and U.S. Customs and Border Protection (CBP) shall assess, antidumping duties on all appropriate entries of subject merchandise in accordance with the final results of this review.

For Hyundai Steel, we calculated importer-specific assessment rates on the basis of the ratio of the total amount of dumping calculated for each importer's examined sales and the total entered value of those sales in accordance with 19 CFR 351.212(b)(1). Where an importer-specific assessment rate is de minimis (i.e., less than 0.5 percent), the entries by that importer will be liquidated without regard to antidumping duties. Because POSCO's weighted-average dumping margin is zero, we will instruct CBP to liquidate POSCO's entries without regard to duties in accordance with 19 CFR 351.106(c)(1).

For entries of subject merchandise during the POR produced by either of the individually examined respondents for which it did not know that its merchandise was destined for the United States, we will instruct CBP to liquidate unreviewed entries at the all-others rate if there is no rate for the intermediate company(ies) involved in the transaction.

For the companies identified above that were not selected for individual examination, we will instruct CBP to liquidate entries at the rate established in these final results of review.

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

Upon publication of this notice in the Federal Register, the following cash deposit requirements will be effective for all shipments of hot-rolled steel entered, or withdrawn from warehouse, for consumption on or after the date of publication as provided by section 751(a)(2) of the Act: (1) the cash deposit rates for the companies subject to this review will be equal to the weighted-average dumping margin established in the final results of the review; (2) for merchandise exported by producers or exporters not covered in this review but covered in a prior completed segment of the proceeding, the cash deposit rate will continue to be the company-specific rate published in the completed segment for the most recent period; (3) if the exporter is not a firm covered in this review, a prior review, or the original investigation but the producer has been covered in a prior completed segment of this proceeding, then the cash deposit rate will be the rate established in the completed segment for the most recent period for the producer of the merchandise; (4) the cash deposit rate for all other producers or exporters will continue to be 6.05 percent, the all-others rate established in the less-than-fair-value investigation for this proceeding.¹⁰ These cash deposit requirements, when imposed, shall remain in effect until further notice.

¹⁰ See Order, 81 FR at 67963, 67965.

Notification to Importers

This notice serves as a final reminder to importers of their responsibility under 19 CFR 351.402(f)(2) to file a certificate regarding the reimbursement of antidumping duties prior to liquidation of the relevant entries during this review period. Failure to comply with this requirement could result in Commerce's presumption that reimbursement of antidumping duties occurred and the subsequent assessment of doubled antidumping duties.

Administrative Protective Order

This notice also serves as a reminder to parties subject to administrative protective order (APO) of their responsibility concerning the return or destruction of proprietary information disclosed under the APO in accordance with 19 CFR 351.305(a)(3), which continues to govern business proprietary information in this segment of the proceeding. Timely written notification of the return/destruction of APO materials or conversion to judicial protective order is hereby requested. Failure to comply with the regulations and terms of an APO is a violation which is subject to sanction.

Notification to Interested Parties

We are issuing and publishing this notice in accordance with sections 751(a)(1) and 777(i) of the Act, and 19 CFR 351.221(b)(5).

Dated: April 14, 2023.
Lisa W. Wang,
Assistant Secretary for Enforcement and Compliance.

Appendix—List of Topics Discussed in the Issues and Decision Memorandum

I. Summary

II. Background

III. Scope of the Order

IV. Changes Since the Preliminary Results

V. Discussion of the Issues

Comment 1: Hyundai Steel's Quarterly Costs

Comment 2: Hyundai Steel's Cost Adjustments

Comment 3: Cost Recovery Methodology

Comment 4: POSCO's Cost Smoothing

VI. Recommendation

[FR Doc. 2023-08393 Filed 4-19-23; 8:45 am]

BILLING CODE 3510-DS-P